DEPARTMENT OF COMMERCE

National Oceanic and Atmospheric Administration

RIN 0648-XF292

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Skate Committee to consider actions affecting New England fisheries in the exclusive economic zone (EEZ). Recommendations from this group will be brought to the full Council for formal consideration and action, if appropriate.

DATES: This meeting will be held on Tuesday, April 4, 2017 at 9 a.m.

ADDRESSES: The meeting will be held at the Wentworth by the Sea, 588 Wentworth Road, New Castle, NH 03854; telephone: (603) 422-7322.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will review public comments regarding limited access in Amendment 5 to the Skate Fishery Management Plan. The panel will have a discussion of limited access, including potential future steps and control dates as well as a discussion of upcoming specifications framework, including removing the prohibition of landing barndoor skate. Other business, as necessary.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: March 14, 2017.
Tracey L. Thompson,
Acting Deputy Director, Office of Sustainable Fisheries, National Marine Fisheries Service.

[FR Doc. 2017-05359 Filed 3-16-17; 8:45 am]

BILLING CODE 3510-22-P